DEPARTMENT OF HOUSING AND URBAN DEVELOPMENT

[Docket No. FR-7071-N-16]

60-Day Notice of Proposed Information Collection: Comment Request; FHA Insured Title I Property Improvement and Manufactured Home Loan Programs; OMB Control No.: 2502-0328

AGENCY: Office of the Assistant Secretary for Housing—Federal Housing Commissioner, HUD.

ACTION: Notice.

SUMMARY: HUD is seeking approval from the Office of Management and Budget (OMB) for the information collection described below. In accordance with the Paperwork Reduction Act, HUD is requesting comment from all interested parties on the proposed collection of information. The purpose of this notice is to allow for 60 days of public comment.

DATES: Comments Due Date: September 25, 2023.

ADDRESSES: Interested persons are invited to submit comments regarding this proposal. Written comments and recommendations for the proposed information collection can be sent within 60 days of publication of this notice to www.reginfo.gov/public/do/PRAMain. Find this particular information collection by selecting “Currently under 60-day Review—Open for Public Comments” or by using the search function. Interested persons are also invited to submit comments regarding this proposal by name and/or OMB Control Number and can be sent to: Colette Pollard, Reports Management Officer, REE, Department of Housing and Urban Development, 451 7th Street SW, Room 8210, Washington, DC 20410-5000; telephone 202-402-3400 (this is not a toll-free number) or email at PaperworkReductionActOffice@hud.gov.

FOR FURTHER INFORMATION CONTACT: Colette Pollard, Reports Management Officer, QDAM, Department of Housing and Urban Development, 451 7th Street SW, Washington, DC 20410; email Colette Pollard at Colette.Pollard@hud.gov or telephone (202) 402-3400. This is not a toll-free number. HUD welcomes. and is prepared to receive calls from individuals who are deaf or hard of hearing, as well as individuals with speech or communication disabilities. To learn more about how to make an accessible telephone call, please visit https://www.fcc.gov/consumers/guides/telecommunications-relay-service-trs.

Copies of available documents submitted to OMB may be obtained from Ms. Pollard.

SUPPLEMENTARY INFORMATION: This notice informs the public that HUD is seeking approval from OMB for the information collection described in Section A.

A. Overview of Information Collection

Title of Information Collection: Title I Property Improvement and Manufactured Home Loan Programs.

OMB Control Number, if applicable: 2502-0328.

Type of Request: Extension of currently approved collection.

Description of the need for the information and proposed use: Title I loans are made by private sector lenders and insured by HUD against loss from default. HUD uses information about Title I loan borrowers to evaluate individual loans on their overall program performance. The information collected is used to determine insurance eligibility and claim eligibility. HUD proposes adopting the URLA and amending forms 56001 and 56001-MH to capture Title I Loan program specific information which will simplify the form, avoid unnecessary duplication, and reduce the burden to the public. This information is necessary for HUD to capture information effective in determining overall program performance, insurance and claim eligibility and risk management.

Agency form numbers, if applicable: HUD-637, 27030, 55013, 55014, 56001, 56001-MH, 56002, 56002-MH, & SF 3881.

Respondents: The respondents are lenders.

Estimation of the total numbers of hours needed to prepare the information collection:

Estimated Number of Respondents: 510.

Estimated Number of Responses: 38,515.

Frequency of Response: On occasion, periodic.

Average Hours per Response: 10.01.

Total Estimated Burdens: 23,180.

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

(5) This extension recommends adopting the URLA form, an industry standard for loan applications. This will allow use of revised 56001 and 56001 MH forms, which reduces the public burden. The public burden hours have been adjusted to reflect this change. HUD encourages interested parties to submit comment in response to these questions.

C. Authority

The Paperwork Reduction Act of 1995, 44 U.S.C., Chapter 35, as amended.

Jeffrey D. Little,
General Deputy Assistant Secretary for Housing.

[FR Doc. 2023-15820 Filed 7-25-23; 8:45 am]

BILLING CODE 4210-67-P